DEPARTMENT OF TRANSPORTATION

Federal Highway Administration

[Docket No. FHWA-2013-0036]

Temporary Closure of I-65 (I-70/I-65 South Split Interchange to I-70/I-65 North Split Interchange) in the City of Indianapolis

AGENCIES: Federal Highway Administration (FHWA), DOT.

ACTION: Notice and Request for Comment.

SUMMARY: The Indiana Department of Transportation (INDOT) has requested FHWA approval of INDOT's proposed plan to close a 2-mile portion of I-65 in Indiana (from I-70/I-65 south split interchange to I-70/I-65 north split interchange) for a period of 93 days, from Wednesday, August 21, 2013, to Thursday, November 21, 2013. The closure is requested to accommodate the reconstruction on the Virginia Avenue Bridge, which consists of replacing the northbound and southbound bridge girders and lowering the pavement section from south of Morris Street to north of Fletcher Avenue. The request is based on the provisions in 23 CFR 658.11 which authorizes the deletion of segments of the federally designated routes that make up the National Network designated in Appendix A of 23 CFR Part 658 upon approval by the FHWA.

The FHWA seeks comments from the general public on this request submitted by INDOT for a deletion in accordance with 23 CFR 658.11(d) for the considerations discussed in this notice.

DATES: Comments must be received on or before 30 days after date of publication in the Federal Register.

ADDRESSES: The letter of request along with justifications can be viewed electronically at the docket established for this notice at http://www.regulations.gov. Hard copies of the documents will also be available for viewing at the DOT address listed below.

Mail or hand deliver comments to the U.S. Department of Transportation, Dockets Management Facility, Room W12-140, 1200 New Jersey Avenue SE., Washington, DC 20590, or fax comments to (202) 493-2251. Alternatively, comments may be submitted via the Federal eRulemaking Portal at http://www.regulations.gov (follow the on-line instructions for submitting comments). All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. All comments received into any docket may be searched in electronic format by the name of the individual submitting the comment (or signing the comment, if submitted on behalf of an association, business, labor union, etc.). Persons making comments may review DOT's complete Privacy Act Statement in the Federal Register published on April 11, 2000 (Volume 65, Number 70, Pages 19477-78), or you may view the statement at http://www.regulations.gov .

FOR FURTHER INFORMATION CONTACT: Ms. Crystal Jones, Office of Freight Management and Operations, Office of Operations, (202) 366-2976, Mr. Bill Winne, Office of the Chief Counsel, (202) 366-0791, Federal Highway Administration, 1200 New Jersey Avenue SE., Washington, DC 20590, and Mr Richard Marquis, FHWA Division Administrator-Indiana Division, (317) 226-7483. Office hours for the FHWA are from 8:00 a.m. to 4:30 p.m., e.t., Monday through Friday, except Federal holidays.

SUPPLEMENTARY INFORMATION:

Electronic Access and Filing

You may submit or retrieve comments online through the Federal eRulemaking portal at: http://www.regulations.gov. The Web site is available 24 hours each day of the year. Electronic submission and retrieval help and guidelines are available under the help section of the Web site.

An electronic copy of this document may also be downloaded from Office of the Federal Register's home page at: http://www.archives.gov/federal_register and the Government Printing Office's Web page at: http://www.gpoaccess.gov.

Background

The FHWA is responsible for enforcing the Federal regulations applicable to the National Network of highways that can safely and efficiently accommodate the large vehicles authorized by provisions of the Surface Transportation Assistance Act of 1982, as amended, designated in accordance with 23 CFR part 658 and listed in Appendix A. In accordance with 23 CFR 658.11, the FHWA may approve deletions or restrictions of the Interstate System or other National Network routes based upon specified justification criteria in 23 CFR 658.11(d)(2). These deletions are then published in the Federal Register for notice and comment.

The INDOT has submitted a request to FHWA for approval of the temporary closure of a segment of I-65, from the I-70/I-65 south split interchange to the I-70/I-65 north split interchange, for a period of 93 days, from the period beginning Wednesday, August 21, 2013, through Thursday, November 21, 2013. The incoming request and supporting documents, including maps, may be viewed electronically at the docket established for this notice at http://www.regulations.gov.

Along its length, I-65 through Indianapolis, Indiana, passes under several bridges, many with limited vertical clearance. The bridges at Virginia Avenue, Fletcher Avenue, Calvary Street, and Morris Street have vertical clearances ranging from 13′ 11″, to 14′ 6”. This project will increase vertical clearances to a minimum 14′ 9” at each of these locations.

For the duration of the requested temporary closure, eastbound and westbound I-70 traffic will be detoured to I-465, around the south side of Indianapolis. Northbound and southbound I-65 traffic will be detoured to I-465. The INDOT states that the temporary closure of this segment of I-65 to general traffic should have negligible impact to interstate commerce.

Commercial motor vehicles of the dimensions and configurations described in 23 CFR 658.13 and 658.15 serving the impacted area may use the alternate routes listed above. Vehicles servicing the businesses bordering the impacted area will still be able to do so by also using the alternative routes noted above to circulate around the restricted area. In addition, vehicles not serving businesses in the restricted area but, currently using I-65 and the local street system to reach their ultimate destinations, will be able to use I-465 to access the alternative routes. A map depicting the alternative routes is available electronically at the docket established for this notice at http://www.regulations.gov. The INDOT has reviewed these alternative routes and determined the routes to generally be capable of safely accommodating the diverted traffic during the period of temporary closure.

The INDOT will increase the Hoosier Helper workforce (freeway service patrols) along I-465 to address incident response and minimize any incident impacts. The INDOT will issue a press release to inform the community of the closure and will post the closure in Road Restriction System. The INDOT traveler information Web site Traffic Wise will be utilized, as well as the 511 phone system. The INDOT will issue a formal press release upon notification that the request for closure has been approved.

The INDOT has reached out to Federal, State, and local agencies to ensure a collaborative and coordinated effort to address the logistical challenges of reconstructing this section of I-65. The Illinois Department of Transportation and the Ohio Department of Transportation will be informed of this proposal. Additionally, efforts have been made to work with the various transit systems as well as the American Trucking Association. The INDOT has notified the Indiana Motor Trucking Association of this plan to temporarily close I-65, and has agreed to work with them to provide information targeted at the trucking industry.

This request to close I-65 to general traffic on or around August 21, 2013, was prepared for the INDOT in accordance with the Indianapolis Metropolitan Planning Organization's Transportation Plan. The INDOT's proposal has been approved by the city of Indianapolis Department of Public Works and INDOT will coordinate the closure with the Indianapolis Metropolitan Police Department.

The FHWA seeks comments on this request for temporary deletion from the National Network for considerations in accordance with 23 CFR 658.11(d).

Authority: 23 U.S.C. 127 and 315; 49 U.S.C. 31111, 31112, and 31114; 23 CFR Part 658.

Issued on: June 20, 2013.
Victor M. Mendez,
Federal Highway Administrator.

[FR Doc. 2013-15655 Filed 6-28-13; 8:45 am]

BILLING CODE 4910-22-P